DEPARTMENT OF TRANSPORTATION

Federal Aviation Administration

Seventy Seventh Meeting: RTCA Special Committee 147, Minimum Operational Performance Standards for Traffic Alert and Collision Avoidance Systems Airborne Equipment

AGENCY: Federal Aviation Administration (FAA), U.S. Department of Transportation (DOT).

ACTION: Meeting Notice of RTCA Special Committee 147, Minimum Operational Performance Standards for Traffic Alert and Collision Avoidance Systems Airborne Equipment.

SUMMARY: The FAA is issuing this notice to advise the public of the Seventy Seventh meeting of RTCA Special Committee 147, Minimum Operational Performance Standards for Traffic Alert and Collision Avoidance Systems Airborne Equipment.

DATES: The meeting will be held March 18-20, 2014, from 9:00 a.m. to 5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 147. The agenda will include the following:

March 18

• Opening Plenary Session

○ Chairmen's Opening Remarks

○ Introductions

○ Approval of Minutes From 76th Meeting of SC 147

○ Approval of Agenda

○ Update From Eurocontrol/WG-75

• Review High-Level Goals for MOPS Effort

○ Mid-morning and lunch breaks taken at the discretion of SC 147 leads

• Review of ACAS X Concepts

○ Agreements From ACAS X Concepts review

○ Review and Discussion of Draft MOPS Section 1

○ Mid-afternoon Break 3:00-3:30

• Discussion of MOPS Structure

Wednesday, March 19: SC-147 Plenary Agenda

• Introduction to Algorithm Description Document (180 min/9:00-12:00)—TCAS Program Office

○ Overview of STM

○ Overview of TRM

○ Mid-morning and lunch breaks taken at the discretion of SC 147 leads

• SESAR Activity Updates

○ Update on SESAR work Update & Progress (4.8.2/9.47)

○ Results on TCAS/ACAS X Interoperability Eval

○ Complementary Results on ACAS X Eval

○ Mid-afternoon Break 2:30-3:00

• Logic Table Optimization and Tuning

• Overview of Run 12 Validation Results

Thursday, March 20: SC-147 Plenary Agenda

• Draft SC 147 Schedule for ACAS X MOPS

• Coordination Sub-Group Schedule and Scope

• 2015 ACAS X Flight Test Goals and Scenarios

• Revisit Agenda Item #2—High-Level MOPS Goals

• Other/new business/Overflow

• Closing Session

○ Next Meeting Location

○ Action Item review

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 12, 2014.
Paige Williams,
Management Analyst, NextGen, Business Operations Group, Federal Aviation Administration.

[FR Doc. 2014-03917 Filed 2-24-14; 8:45 am]

BILLING CODE 4910-13-P